DEPARTMENT OF COMMERCE

International Trade Administration

[C-489-830]

Steel Concrete Reinforcing Bar From the Republic of Turkey: Final Results of the Expedited First Sunset Review of the Countervailing Duty Order

AGENCY: Enforcement and Compliance, International Trade Administration, Department of Commerce.

SUMMARY: As a result of this expedited sunset review, the U.S. Department of Commerce (Commerce) finds that revoking the countervailing duty (CVD) order on steel concrete reinforcing bar (rebar) from the Republic of Turkey (Turkey) would likely lead to continuation or recurrence of countervailable subsidies at the levels indicated in the “Final Results of the Sunset Review” section of this notice.

DATES: Applicable October 5, 2022.

FOR FURTHER INFORMATION CONTACT: Jose Rivera, AD/CVD Operations, Office VII, Enforcement and Compliance, International Trade Administration, U.S. Department of Commerce, 1401 Constitution Avenue NW, Washington, DC 20230; telephone: (202) 482-0842.

SUPPLEMENTARY INFORMATION:

Background

On July 14, 2017, Commerce published the CVD order on rebar from Turkey.¹ On June 1, 2022, Commerce published the notice of initiation of the sunset review of the Order.² Commerce received a notice of intent to participate from the Rebar Trade Action Coalition and its individual members, Nucor Corporation, Gerdau Ameristeel US Inc., Commercial Metals Company, Steel Dynamics, Inc., and Byer Steel (RTAC) (domestic interested parties) within the deadline specified in 19 CFR 351.218(d)(1)(i).³

¹ See Steel Concrete Reinforcing Bar from the Republic of Turkey: Amended Final Affirmative Countervailing Duty Determination and Countervailing Duty Order, 82 FR 32531 (July 14, 2017) (Order).

² See Initiation of Five-Year (Sunset) Reviews, 87 FR 33123 (June 1, 2022).

³ See RTAC's Letter, “Notice of Intent to Participate in Sunset Review,” dated June 15, 2022.

On June 30, 2022, Commerce received a substantive response from the domestic interested parties within the 30-day deadline specified in 19 CFR 351.218(d)(3)(i).⁴ We also received a substantive response from the Government of Turkey (GOT).⁵ However, we did not receive a substantive response from any other respondent interested party in this proceeding, and no party requested a hearing.

⁴ See RTAC Letter, “Substantive Response to Notice of Initiation,” dated June 30, 2022.

⁵ See GOT's Letter, “Substantive Response of the Government of the Republic of Türkiye in the First Sunset Review of the Countervailing Duly Order on Steel Concrete Reinforcing Bar,” dated June 30, 2022.

On July 21, 2022, Commerce notified the U.S. International Trade Commission that it did not receive an adequate substantive response from respondent interested parties.⁶ As a result, pursuant to section 751(c)(3)(B) of the Act and 19 CFR 351.218(e)(1)(ii)(C)(2), Commerce conducted an expedited (120-day) sunset review of the Order.

⁶ See Commerce's Letter, “Sunset Reviews Initiated on June 1, 2022” dated July 21, 2022.

Scope of the Order

The merchandise covered by the Order is steel concrete reinforcing bar imported in either straight length or coil form (rebar) from Turkey. For a complete description of the scope of the Order, see the Issues and Decision Memorandum.⁷

⁷ See Memorandum, “Issues and Decision Memorandum for the Expedited First Sunset Review of the Countervailing Duty Order on Steel Concrete Reinforcing Bar from the Republic of Turkey,” dated concurrently with, and hereby adopted by, this notice (Issues and Decision Memorandum).

Analysis of Comments Received

All issues raised in this sunset review are addressed in the Issues and Decision Memorandum. A list of topics discussed in the Issues and Decision Memorandum is included as an appendix to this notice. The Issues and Decision Memorandum is a public document and is on file electronically via the Enforcement and Compliance Antidumping and Countervailing Duty Centralized Electronic Service System (ACCESS). ACCESS is available to registered users at https://access.trade.gov. In addition, a complete version of the Issues and Decisions Memorandum can be accessed directly at https://access.trade.gov/public/FRNotices/ListLayout.aspx.

Final Results of the Sunset Review

Pursuant to sections 751(c)(1) and 752(b) of the Act, Commerce determines that revocation of the Order on rebar from Turkey would likely lead to the continuation or recurrence of countervailable subsidies at the following rates:

Producer and exporter | Subsidy rate (percent ad valorem)
Habas Sinai ve Tibbi Gazlar Istihsal Endustrisi A.S | 15.99

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing final results and this notice in accordance with sections 751(c), 752(b), and 777(i)(1) of the Act, and 19 CFR 351.218.

Dated: September 29, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely To Prevail

3. Nature of the Subsidies

VII. Final Results of Sunset Review

VIII. Recommendation

[FR Doc. 2022-21627 Filed 10-4-22; 8:45 am]

BILLING CODE 3510-DS-P